DEPARTMENT OF THE INTERIOR

BUREAU OF LAND MANAGEMENT

[LLORV00000-L10200000.DD0000; HAG 9-0320]

Meeting Notice for the John Day/Snake Resource Advisory Council

AGENCY: Bureau of Land Management (BLM), Vale District, Department of the Interior.

ACTION: Meeting Notice for the John Day/Snake Resource Advisory Council.

SUMMARY: Pursuant to the Federal Land Policy and Management Act and the Federal Advisory Committee Act, the U.S. Department of the Interior, Bureau of Land Management (BLM) John Day-Snake Resource Advisory Council (JDSRAC) will meet as indicated below:

DATES: The JDSRAC Field Trip will begin at 10 a.m. PDT on September 23, 2009.

The JDSRAC meeting will begin 8 a.m. PDT on September 24, 2009.

• Effect: On the field trip the JDSRAC members will view first hand issues that pertain to The Nature Conservancy's management of the Zumwalt Prairie. At the meeting the JDSRAC will conduct its regular business of keeping member representatives informed about Federal actions.

ADDRESSES: On September 23 and September 24, the JDSRAC members will meet at the Wallowa-Whitman Mountain Visitor Center, 88401 Highway 82, Enterprise, Oregon 97828.

SUPPLEMENTARY INFORMATION: A field trip is scheduled for September 23, 2009, to view the Nature Conservancy's management of the Zumwalt Prairie. The business meeting will take place on September 24, 2009, at the Wallowa-Whitman Mountain Visitor Center, 88401 Highway 82, Enterprise, Oregon 97828, from 8 a.m.to 4 p.m. The meeting may include such topics as Climate Change Letter, update of the West End Off-Highway Vehicle Project, North End Umatilla N.F. Grazing Allotment Issue, Baker Resource Management Plan Alternative Development, Sub-Committee Reports, Wallowa-Whitman Forest Plan Revision, and other matters as may reasonably come before the council. The public is welcome to attend all portions of the meeting and may make oral comments to the Council at 1 p.m. on September 24, 2009. Those who verbally address the JDSRAC are asked to provide a written statement of their comments or presentation. Unless otherwise approved by the JDSRAC Chair, the public comment period will last no longer than 15 minutes, and each speaker may address the JDSRAC for a maximum of five minutes. If reasonable accommodation is required, please contact the BLM's Vale District at (541) 473-6213 as soon as possible.

FOR FURTHER INFORMATION CONTACT: Mark Wilkening, Public Affairs Specialist, 100 Oregon Street, Vale, OR 97918, (541) 473-6218 or e-mail mark_wilkening@blm.gov.

Dated: August 12, 2009.
David R. Henderson,
District Manager, Vale District Office.

[FR Doc. E9-19740 Filed 8-17-09; 8:45 am]

BILLING CODE 4310-33-P